DEPARTMENT OF THE INTERIOR

National Park Service

Notice of Intent To Prepare a Draft Environmental Impact Statement for Cumberland Island National Seashore, Georgia

SUMMARY: In accordance with Section 102(2)(c) of the National Environmental Policy Act of 1969 (Public Law 91-190, as amended), the National Park Service (NPS) is preparing an Environmental Impact Statement (DEIS) for a General Management Plan Amendment, a Wilderness Management Plan, a Resource Management Plan (Cultural and Natural) and a Commercial Services Plan. The DEIS will evaluate the environmental consequences associated with the proposed actions and the other alternatives on management of wilderness, cultural and natural resources, and commercial services.

DATES: A public scoping meeting will be scheduled this summer. Time and place of the public meeting will be publicized in area newspapers. The DEIS will be available sometime in late summer.

FOR FURTHER INFORMATION CONTACT: To provide comments on this planning effort and to receive copies of the DEIS, please contact: Art Frederick, Superintendent, Cumberland Island National Seashore, P.O. Box 806, St. Marys, Georgia 31558, Telephone: (912) 882-4336.

SUPPLEMENTARY INFORMATION: Since June 1996 the NPS has been engaged in a process to determine the management of the island's wilderness. During the discussions concerning wilderness management, the NPS realized that the planning effort should broaden its focus. As a result the NPS has prepared a series of plans addressing the management of wilderness, cultural resources, natural resources, and commercial services.

Our practice is to make comments, including names and home addresses of respondents, available for public review during regular business hours. Individual respondents may request that we withhold their home address from the rulemaking record which we will honor to the extent allowable by law. There also may be circumstances in which we would withhold from the rulemaking record a respondent's identity, as allowable by law. If you wish for us to withhold your name and/or address, you must state this prominently at the beginning of your comments. We will make all submissions from organizations or businesses, and from individuals identifying themselves as representatives or officials of organizations or businesses, available for public inspection in their entirety.

Dated: May 11, 2000.
W. Thomas Brown,
Regional Director, Southeast Region.

[FR Doc. 00-12703 Filed 5-19-00; 8:45 am]

BILLING CODE 4310-70-M